ENVIRONMENTAL PROTECTION AGENCY

[FRL-7407-5]

Agency Information Collection Activities: Submission for OMB Review; Comment Request; Tribal Lands Hazardous Waste Sites Census

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Tribal Lands Hazardous Waste Sites Census, EPA ICR Number 2059.01. The ICR describes the nature of the information collection and its expected burden and cost; where appropriate, it includes the actual data collection instrument.

DATES: Comments must be submitted on or before December 13, 2002.

ADDRESSES: Send comments, referencing EPA ICR No. 2059.01 to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at Auby.Susan@epa.gov, or download off the Internet at http://www.epa.gov/icrand refer to EPA ICR No. 2059.01. For technical questions about the ICR contact Kirby Biggs, Office of Emergency and Remedial Response, U.S. EPA, Mail Code 5204G, 1200 Pennsylvania Avenue, NW., Washington, DC 20460, telephone (703) 308-8506, e-mail: biggs.kirby@epa.gov.

SUPPLEMENTARY INFORMATION: Title: Tribal Lands Hazardous Waste Sites Census (EPA ICR No. 2059.01). This is a new collection.

Abstract: EPA is conducting a study of potential hazards to Tribal communities from contaminated sites in or near Indian lands. EPA will conduct a voluntary census of all federally recognized tribes to identify known and potential Superfund sites (sites that fall under the Comprehensive Environmental Response, Compensation and Liability Act, or CERCLA, as amended), abandoned or active industrial and municipal sites (sites regulated under the Resource Conservation and Recovery Act or RCRA), and federal sites (such as those operated by the Department of Defense or the Department of Energy) that may be impacting human health and the environment on Indian lands.

EPA has developed a draft list of sites that are believed to be in or near Indian lands. The study will be used to update and refine this draft list into a usable tool to assist EPA and tribal governments in responding to the needs of Tribes and in protecting human health and the environment. The survey will serve to inform EPA of the extent and location of sites potentially affecting Tribes and those sites that are of concern to the Tribes. The inventory of potential risks to Indian lands will provide EPA with vital information regarding program needs and potential risk to Indian tribes from these sites.

No confidentiality is provided and no sensitive information is expected to be collected under this ICR. However, any information submitted to the Agency for which a claim of confidentiality is made will be safeguarded according to the Agency policies set forth in Title 40, chapter 1, part 2, subpart B—Confidentiality of Business Information (see 40 CFR part 2; 41 FR 36902, September 1, 1976; amended by 43 FR 40000, September 8, 1978; 43 FR 42251, September 20, 1978; 44 FR 17674, March 23, 1979).

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on February 1, 2002 (67 FR 4957). One comment was received that questioned the burden hours cited for the information collection as too low and requested a copy of the survey instrument. When a copy of the survey instrument was forwarded to the author of the comment, no further response was received.

Burden Statement: The annual public reporting and recordkeeping burden for this collection of information is estimated to average 2.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State, Local, and Tribal Government.

Estimated Number of Respondents: 550.

Frequency of Response: One time.

Estimated Total Annual Hour Burden: 1375 hours.

Estimated Total Annualized Capital and Operating & Maintenance Cost Burden: $0.

Send comments on the Agency's need for this information, the accuracy of the provided burden estimates, and any suggested methods for minimizing respondent burden, including through the use of automated collection techniques to the addresses listed above. Please refer to EPA ICR No. 2059.01 in any correspondence.

Dated: October 31, 2002.
Sara Hisel-McCoy,
Acting Director, Collection Strategies Division.

[FR Doc. 02-28847 Filed 11-12-02; 8:45 am]

BILLING CODE 6560-50-P